COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee (State) Advisory Committee will hold a meeting on Wednesday, April 19, 2017 for discussing hearing dates for a committee project on municipal fees and fines.

DATES: The meeting will be held on Wednesday, April 19, 2017 at 12:30 p.m. EST.

ADDRESSES: The meeting will be by teleconference. Toll-free call-in number: 888-523-1191, conference ID: 8007351.

FOR FURTHER INFORMATION CONTACT: Jeff Hinton, DFO, at jhinton@usccr.gov or (404) 562-7006.

SUPPLEMENTARY INFORMATION: Members of the public can listen to the discussion. This meeting is available to the public through the following toll-free call-in number: 888-523-1191, conference ID: 8007351. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by May 14, 2017. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000.

Records generated from this meeting may be inspected and reproduced at the Southern Regional Office, as they become available, both before and after the meeting. Records of the meeting will be available via www.facadatabase.gov under the Commission on Civil Rights, Tennessee Advisory Committee link. Persons interested in the work of this Committee are directed to the Commission's Web site, http://www.usccr.gov, or may contact the Southern Regional Office at the above email or street address.

Agenda

Welcome and Call to Order

Diane DiIanni, Tennessee SAC Chairman

Jeff Hinton, Regional Director

Regional Update—Jeff Hinton

New Business: Discussion of Project Proposal/Hearing Dates/Locations:

Diane DiIanni, Tennessee SAC Chairman/Staff/Advisory Committee

Public Participation

Adjournment

Dated: March 29, 2017.
David Mussatt
Supervisory Chief, Regional Programs Unit.

[FR Doc. 2017-06554 Filed 4-3-17; 8:45 am]

BILLING CODE P